DEPARTMENT OF JUSTICE

Notice of Lodging of Proposed Consent Decree Under the Comprehensive Environmental Response, Compensation, and Liability Act (“CERCLA”)

On March 25, 2014, the Department of Justice lodged a proposed consent decree with the United States District Court for the Eastern District of Pennsylvania in the lawsuit entitled United States v. the Estate of Jack H. Goodyear, Marie F. Goodyear and Richard W. Baum, as Executors of the Estate of Jack H. Goodyear, Civil Action No. 2:14-cv-01749.

In this action under Section 107(a) of the Comprehensive Environmental Response, Compensation, and Liability Act, 42 U.S.C. 9607(a) (“CERCLA”), the United States sought reimbursement of response costs incurred or to be incurred for response actions taken at or in connection with the release or threatened release of hazardous substances at the North Penn 7 Superfund Site, in Montgomery County, Pennsylvania. The proposed decree requires the settling defendants to pay $506,718.25 to the United States in reimbursement of past response and future response costs.

The proposed decree provides the settling defendants with a covenant not to sue under Sections 106 and 107(a) of CERCLA, 42 U.S.C. 9606 and 9607(a).

The publication of this notice opens a period for public comment on the proposed decree. Comments should be addressed to the Assistant Attorney General, Environment and Natural Resources Division, and should refer to United States v. the Estate of Jack H. Goodyear, et al., D.J. Ref. No. 90-11-2-09224. All comments must be submitted no later than thirty (30) days after the publication date of this notice. Comments may be submitted either by email or by mail:

To submit comments: | Send them to:
By e-mail | pubcomment-ees.enrd@usdoj.gov.
By mail | Assistant Attorney General; U.S. DOJ—ENRD; P.O. Box 7611; Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $7.50 (25 cents per page reproduction cost) payable to the United States Treasury.

Robert Brook,
Assistant Section Chief, Environmental Enforcement Section, Environment and Natural Resources Division.

[FR Doc. 2014-07031 Filed 3-28-14; 8:45 am]

BILLING CODE 4410-15-P